DEPARTMENT OF ENERGY

Federal Energy Regulatory Commission

Combined Notice of Filings

Take notice that the Commission has received the following Natural Gas Pipeline Rate and Refund Report filings:

Docket Number: PR20-73-001.

Applicants: DTE Gas Company.

Description: Tariff filing per 284.123(b),(e)/: DTE Gas Supplemental OS Filing to be effective 10/1/2020.

Filed Date: 10/30/2020.

Accession Number: 202010305043.

Comments/Protests Due: 5 p.m. ET 11/13/2020.

Docket Numbers: RP21-131-000.

Applicants: Transcontinental Gas Pipe Line Company, LLC.

Description: § 4(d) Rate Filing: Non-Conforming—Leidy South—Partial Interim Service to be effective 12/1/2020.

Filed Date: 10/30/20.

Accession Number: 20201030-5005.

Comments Due: 5 p.m. ET 11/12/20.

Docket Numbers: RP21-132-000.

Applicants: Tennessee Gas Pipeline Company, L.L.C.

Description: § 4(d) Rate Filing: Volume No. 2—Citadel Energy Marketing LLC SP362133 to be effective 11/1/2020.

Filed Date: 10/30/20.

Accession Number: 20201030-5006.

Comments Due: 5 p.m. ET 11/12/20.

Docket Numbers: RP21-133-000.

Applicants: Ozark Gas Transmission, L.L.C.

Description: Compliance filing Ozark Gas Cost and Revenue Study Compliance Filing.

Filed Date: 10/30/20.

Accession Number: 20201030-5007.

Comments Due: 5 p.m. ET 11/12/20.

Docket Numbers: RP21-134-000.

Applicants: Natural Gas Pipeline Company of America.

Description: § 4(d) Rate Filing: Negotiated Rate Agreement Filing—Macquarie Energy LLC to be effective 11/1/2020.

Filed Date: 10/30/20.

Accession Number: 20201030-5008.

Comments Due: 5 p.m. ET 11/12/20.

Docket Numbers: RP21-135-000.

Applicants: Natural Gas Pipeline Company of America.

Description: § 4(d) Rate Filing: Negotiated Rate Agreements Filing—Mercuria Energy America, LLC to be effective 11/1/2020.

Filed Date: 10/30/20.

Accession Number: 20201030-5009.

Comments Due: 5 p.m. ET 11/12/20.

Docket Numbers: RP21-136-000.

Applicants: Natural Gas Pipeline Company of America.

Description: § 4(d) Rate Filing: Negotiated Rate Agreement Filing—Targa Gas Marketing to be effective 11/1/2020.

Filed Date: 10/30/20.

Accession Number: 20201030-5010.

Comments Due: 5 p.m. ET 11/12/20.

Docket Numbers: RP21-137-000.

Applicants: Equitrans, L.P.

Description: Compliance filing Operational Purchases and Sales Report for 2020.

Filed Date: 10/30/20.

Accession Number: 20201030-5011.

Comments Due: 5 p.m. ET 11/12/20.

Docket Numbers: RP21-138-000.

Applicants: Equitrans, L.P.

Description: § 4(d) Rate Filing: Remove Reference to Extension of Time for NAESB 3.1 to be effective 12/1/2020.

Filed Date: 10/30/20.

Accession Number: 20201030-5012.

Comments Due: 5 p.m. ET 11/12/20.

Docket Numbers: RP21-139-000.

Applicants: Rager Mountain Storage Company LLC.

Description: § 4(d) Rate Filing: Remove Reference to Extension of Time for NAESB 3.1 to be effective 12/1/2020.

Filed Date: 10/30/20.

Accession Number: 20201030-5013.

Comments Due: 5 p.m. ET 11/12/20.

Docket Numbers: RP21-140-000.

Applicants: Equitrans, L.P.

Description: § 4(d) Rate Filing: Negotiated Rate Agreement—XTO to be effective 11/1/2020.

Filed Date: 10/30/20.

Accession Number: 20201030-5014.

Comments Due: 5 p.m. ET 11/12/20.

Docket Numbers: RP21-141-000.

Applicants: Equitrans, L.P.

Description: § 4(d) Rate Filing: Refile Inadvertently Overwritten Negotiated Rate Agreements to be effective 8/22/2020.

Filed Date: 10/30/20.

Accession Number: 20201030-5015.

Comments Due: 5 p.m. ET 11/12/20.

Docket Numbers: RP21-142-000.

Applicants: Columbia Gas Transmission, LLC.

Description: § 4(d) Rate Filing: OTRA Winter 2020 to be effective 12/1/2020.

Filed Date: 10/30/20.

Accession Number: 20201030-5037.

Comments Due: 5 p.m. ET 11/12/20.

Docket Numbers: RP21-143-000.

Applicants: Fayetteville Express Pipeline LLC.

Description: § 4(d) Rate Filing: Fuel Filing on 10-30-20 to be effective 12/1/2020.

Filed Date: 10/30/20.

Accession Number: 20201030-5050.

Comments Due: 5 p.m. ET 11/12/20.

Docket Numbers: RP21-144-000.

Applicants: Dominion Energy Transmission, Inc.

Description: § 4(d) Rate Filing: DETI—RNG Gas Quality Filing to be effective 12/1/2020.

Filed Date: 10/30/20.

Accession Number: 20201030-5052.

Comments Due: 5 p.m. ET 11/12/20.

Docket Numbers: RP21-145-000.

Applicants: Texas Eastern Transmission, LP.

Description: § 4(d) Rate Filing: Negotiated Rates—Various Releases eff 11-01-2020 to be effective 11/1/2020.

Filed Date: 10/30/20.

Accession Number: 20201030-5057.

Comments Due: 5 p.m. ET 11/12/20.

Docket Numbers: RP21-146-000.

Applicants: Texas Gas Transmission, LLC.

Description: § 4(d) Rate Filing: Atmos 32658 Neg Rate Agreement to be effective 11/1/2020.

Filed Date: 10/30/20.

Accession Number: 20201030-5059.

Comments Due: 5 p.m. ET 11/12/20.

Docket Numbers: RP21-147-000.

Applicants: Wyoming Interstate Company, L.L.C.

Description: § 4(d) Rate Filing: Quarterly Fuel and L&U Update to be effective 12/1/2020.

Filed Date: 10/30/20.

Accession Number: 20201030-5062.

Comments Due: 5 p.m. ET 11/12/20.

Docket Numbers: RP21-148-000.

Applicants: ETC Tiger Pipeline, LLC.

Description: § 4(d) Rate Filing: Fuel Filing on 10-30-20 to be effective 12/1/2020.

Filed Date: 10/30/20.

Accession Number: 20201030-5069.

Comments Due: 5 p.m. ET 11/12/20.

Docket Numbers: RP21-149-000.

Applicants: Columbia Gulf Transmission, LLC.

Description: § 4(d) Rate Filing: CGT Sabine Pass NRA Amendment to be effective 11/1/2020.

Filed Date: 10/30/20.

Accession Number: 20201030-5070.

Comments Due: 5 p.m. ET 11/12/20.

Docket Numbers: RP21-150-000.

Applicants: Kern River Gas Transmission Company.

Description: § 4(d) Rate Filing: 2020 October Negotiated Rate Amendments to be effective 11/1/2020.

Filed Date: 10/30/20.

Accession Number: 20201030-5072.

Comments Due: 5 p.m. ET 11/12/20.

Docket Numbers: RP21-151-000.

Applicants: Kern River Gas Transmission Company.

Description: § 4(d) Rate Filing: 2020 Miscellaneous & Housekeeping Filing to be effective 12/15/2020.

Filed Date: 10/30/20.

Accession Number: 20201030-5074.

Comments Due: 5 p.m. ET 11/12/20.

Docket Numbers: RP21-152-000.

Applicants: Kern River Gas Transmission Company.

Description: § 4(d) Rate Filing: 2020 October Housekeeping Orig Vol 1A Tariff to be effective 11/30/2020.

Filed Date: 10/30/20.

Accession Number: 20201030-5075.

Comments Due: 5 p.m. ET 11/12/20.

Docket Numbers: RP21-153-000.

Applicants: Texas Eastern Transmission, LP.

Description: § 4(d) Rate Filing: TETLP PCB DEC 2020 FILING to be effective 12/1/2020.

Filed Date: 10/30/20.

Accession Number: 20201030-5099.

Comments Due: 5 p.m. ET 11/12/20.

Docket Numbers: RP21-154-000.

Applicants: Gulf South Pipeline Company, LLC.

Description: § 4(d) Rate Filing: Cap Rel Neg Rate Agmts (Atlanta Gas 8438 releases eff 11-1-2020) to be effective 11/1/2020.

Filed Date: 10/30/20.

Accession Number: 20201030-5112.

Comments Due: 5 p.m. ET 11/12/20.

Docket Numbers: RP21-155-000.

Applicants: Gulf South Pipeline Company, LLC.

Description: § 4(d) Rate Filing: Amendment to Neg Rate Agmts (Wells Fargo 51758 and Tenaska 51757) to be effective 11/1/2020.

Filed Date: 10/30/20.

Accession Number: 20201030-5119.

Comments Due: 5 p.m. ET 11/12/20.

Docket Numbers: RP21-156-000.

Applicants: Dominion Energy Transmission, Inc.

Description: § 4(d) Rate Filing: DETI—October 30, 2020 Nonconforming Service Agreements to be effective 12/1/2020.

Filed Date: 10/30/20.

Accession Number: 20201030-5123.

Comments Due: 5 p.m. ET 11/12/20.

Docket Numbers: RP21-157-000.

Applicants: Gulf South Pipeline Company, LLC.

Description: § 4(d) Rate Filing: Cap Rel Neg Rate Agmt (Constellation 53220 to Exelon 53225) to be effective 11/1/2020.

Filed Date: 10/30/20.

Accession Number: 20201030-5126.

Comments Due: 5 p.m. ET 11/12/20.

Docket Numbers: RP21-158-000.

Applicants: Gulf South Pipeline Company, LLC.

Description: § 4(d) Rate Filing: Permanent Cap Rel to Neg Rate Agmt (Mobile 42488 to Southern 53174) to be effective 11/1/2020.

Filed Date: 10/30/20.

Accession Number: 20201030-5127.

Comments Due: 5 p.m. ET 11/12/20.

Docket Numbers: RP21-159-000.

Applicants: Gulf South Pipeline Company, LLC.

Description: § 4(d) Rate Filing: Cap Rel Neg Rate Agmts (Marathon 51753, 51754 to Spire 53271, 53272) to be effective 11/1/2020.

Filed Date: 10/30/20.

Accession Number: 20201030-5128.

Comments Due: 5 p.m. ET 11/12/20.

Docket Numbers: RP21-160-000.

Applicants: Ruby Pipeline, L.L.C.

Description: § 4(d) Rate Filing: EPC and FL&U Percentage Update to be effective 12/1/2020.

Filed Date: 10/30/20.

Accession Number: 20201030-5132.

Comments Due: 5 p.m. ET 11/12/20.

Docket Numbers: RP21-161-000.

Applicants: Gulf South Pipeline Company, LLC.

Description: § 4(d) Rate Filing: 2020 Fuel Tracker Filing to be effective 4/1/2021.

Filed Date: 10/30/20.

Accession Number: 20201030-5143.

Comments Due: 5 p.m. ET 11/12/20.

Docket Numbers: RP21-162-000.

Applicants: Natural Gas Pipeline Company of America.

Description: § 4(d) Rate Filing: Amedment to Negotiated Rate Agreements Filing—Tenaska Marketing Ventures to be effective 11/1/2020.

Filed Date: 10/30/20.

Accession Number: 20201030-5153.

Comments Due: 5 p.m. ET 11/12/20.

Docket Numbers: RP21-163-000.

Applicants: El Paso Natural Gas Company, L.L.C.

Description: § 4(d) Rate Filing: Negotiated Rate Agreement Update (Tesoro) to be effective 12/5/2020.

Filed Date: 10/30/20.

Accession Number: 20201030-5154.

Comments Due: 5 p.m. ET 11/12/20.

Docket Numbers: RP21-164-000.

Applicants: Transcontinental Gas Pipe Line Company, LLC.

Description: § 4(d) Rate Filing: List of Non-Conforming Service Agreements (Leidy South_Interim Svc) to be effective 12/1/2020.

Filed Date: 10/30/20.

Accession Number: 20201030-5197.

Comments Due: 5 p.m. ET 11/12/20.

Docket Numbers: RP21-165-000.

Applicants: Algonquin Gas Transmission, LLC.

Description: § 4(d) Rate Filing: AGT FRQ 2020 Filing to be effective 12/1/2020.

Filed Date: 10/30/20.

Accession Number: 20201030-5251.

Comments Due: 5 p.m. ET 11/12/20.

Docket Numbers: RP21-166-000.

Applicants: Colorado Interstate Gas Company, L.L.C.

Description: § 4(d) Rate Filing: Negotiated Rate Agreement Filing (Conoco) to be effective 11/1/2020.

Filed Date: 10/30/20.

Accession Number: 20201030-5274.

Comments Due: 5 p.m. ET 11/12/20.

Docket Numbers: RP21-167-000.

Applicants: Northern Natural Gas Company.

Description: § 4(d) Rate Filing: 20201030 Negotiated Rate to be effective 11/1/2020.

Filed Date: 10/30/20.

Accession Number: 20201030-5297.

Comments Due: 5 p.m. ET 11/12/20.

Docket Numbers: RP21-168-000.

Applicants: Columbia Gas Transmission, LLC.

Description: § 4(d) Rate Filing: Nov. 20 Negotiated Rate Agmt Amends to be effective 11/1/2020.

Filed Date: 10/30/20.

Accession Number: 20201030-5302.

Comments Due: 5 p.m. ET 11/12/20.

Docket Numbers: RP21-169-000.

Applicants: Destin Pipeline Company, L.L.C.

Description: Compliance filing Annual Fuel Retention Adjustment.

Filed Date: 10/30/20.

Accession Number: 20201030-5312.

Comments Due: 5 p.m. ET 11/12/20.

Docket Numbers: RP21-170-000.

Applicants: Texas Eastern Transmission, LP.

Description: § 4(d) Rate Filing: TETLP ASA DEC 2020 FILING to be effective 12/1/2020.

Filed Date: 10/30/20.

Accession Number: 20201030-5321.

Comments Due: 5 p.m. ET 11/12/20.

Docket Numbers: RP21-171-000.

Applicants: Texas Eastern Transmission, LP.

Description: § 4(d) Rate Filing: Negotiated Rate—ConEd 910950 Release eff 11-1-20 to be effective 11/1/2020.

Filed Date: 10/30/20.

Accession Number: 20201030-5328.

Comments Due: 5 p.m. ET 11/12/20.

Docket Numbers: RP21-172-000.

Applicants: Texas Eastern Transmission, LP.

Description: § 4(d) Rate Filing: Negotiated Rate—ConEd 911704 Release eff 11-1-20 to be effective 11/1/2020.

Filed Date: 10/30/20.

Accession Number: 20201030-5337.

Comments Due: 5 p.m. ET 11/12/20.

Docket Numbers: RP21-173-000.

Applicants: Algonquin Gas Transmission, LLC.

Description: § 4(d) Rate Filing: Negotiated Rates—Keyspan 510369 Releases eff 11-01-20 to be effective 11/1/2020.

Filed Date: 10/30/20.

Accession Number: 20201030-5348.

Comments Due: 5 p.m. ET 11/12/20.

Docket Numbers: RP21-174-000.

Applicants: Southern Star Central Gas Pipeline, Inc.

Description: § 4(d) Rate Filing: Vol. 2-Neg. Rates-Spotlight, Tenaska, Conexus & Non-Conforming Discount-Empire to be effective 10/30/2020.

Filed Date: 10/30/20.

Accession Number: 20201030-5350.

Comments Due: 5 p.m. ET 11/12/20.

Docket Numbers: RP21-175-000.

Applicants: Rockies Express Pipeline LLC.

Description: § 4(d) Rate Filing: REX 2020-10-30 Negotiated Rate Agreements to be effective 11/1/2020.

Filed Date: 10/30/20.

Accession Number: 20201030-5352.

Comments Due: 5 p.m. ET 11/12/20.

Docket Numbers: RP21-176-000.

Applicants: Algonquin Gas Transmission, LLC.

Description: § 4(d) Rate Filing: Negotiated Rates—Brooklyn Union 803151 Releases eff 11-01-20 to be effective 11/1/2020.

Filed Date: 10/30/20.

Accession Number: 20201030-5357.

Comments Due: 5 p.m. ET 11/12/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2020.
Nathaniel J. Davis, Sr.,
Deputy Secretary.

[FR Doc. 2020-24708 Filed 11-5-20; 8:45 am]

BILLING CODE 6717-01-P